DEPARTMENT OF ENERGY

Federal Energy Regulatory Commission

Combined Notice of Filings #2

Take notice that the Commission received the following electric rate filings:

Docket Numbers: ER12-147-000.

Applicants: PJS Capital LLC.

Description: PJS Capital LLC submits tariff filing per 35.1: PJS Capital, LLC Electric Tariff Original Volume No 1 to be effective 10/1/2011.

Filed Date: 10/21/2011.

Accession Number: 20111021-5003.

Comment Date: 5 p.m. Eastern Time on Monday, November 14, 2011.

Docket Numbers: ER12-148-000.

Applicants: Virginia Electric and Power Company.

Description: Virginia Electric and Power Company submits tariff filing per 35: Compliance Filing—MBR Tariff Order of Affiliate Restrictions to be effective 10/21/2011.

Filed Date: 10/21/2011.

Accession Number: 20111021-5059.

Comment Date: 5 p.m. Eastern Time on Monday, November 14, 2011.

Docket Numbers: ER12-149-000.

Applicants: Southwest Power Pool, Inc.

Description: Southwest Power Pool, Inc. submits tariff filing per 35.13(a)(2)(iii): 2158R1 Arkansas Electric Cooperative Corporation NITSA NOA to be effective 10/1/2011.

Filed Date: 10/21/2011.

Accession Number: 20111021-5060.

Comment Date: 5 p.m. Eastern Time on Monday, November 14, 2011.

Docket Numbers: ER12-150-000.

Applicants: Florida Power Corporation.

Description: Florida Power Corporation submits tariff filing per 35.13(a)(2)(iii): Rate Schedule No. 176 of Florida Power Corporation to be effective 12/21/2011.

Filed Date: 10/21/2011.

Accession Number: 20111021-5067.

Comment Date: 5 p.m. Eastern Time on Monday, November 14, 2011.

Docket Numbers: ER12-151-000.

Applicants: Florida Power Corporation.

Description: Florida Power Corporation submits tariff filing per 35.13(a)(2)(iii): Rate Schedule No. 194 of Florida Power Corporation to be effective 12/21/2011.

Filed Date: 10/21/2011.

Accession Number: 20111021-5068.

Comment Date: 5 p.m. Eastern Time on Monday, November 14, 2011.

Docket Numbers: ER12-152-000.

Applicants: Florida Power Corporation.

Description: Florida Power Corporation submits tariff filing per 35.13(a)(2)(iii): Revised Rate Schedule No. 199 of Florida Power Corporation to be effective 12/21/2011.

Filed Date: 10/21/2011.

Accession Number: 20111021-5069.

Comment Date: 5 p.m. Eastern Time on Monday, November 14, 2011.

Docket Numbers: ER12-153-000.

Applicants: Florida Power Corporation.

Description: Florida Power Corporation submits tariff filing per 35.13(a)(2)(iii): Rate Schedule No. 210 of Florida Power Corporation to be effective 12/21/2011.

Filed Date: 10/21/2011.

Accession Number: 20111021-5070.

Comment Date: 5 p.m. Eastern Time on Monday, November 14, 2011.

Docket Numbers: ER12-154-000.

Applicants: Florida Power Corporation.

Description: Florida Power Corporation submits tariff filing per 35.13(a)(2)(iii): Rate Schedule No. 213 of Florida Power Corporation to be effective 12/21/2011.

Filed Date: 10/21/2011.

Accession Number: 20111021-5073.

Comment Date: 5 p.m. Eastern Time on Monday, November 14, 2011.

Docket Numbers: ER12-155-000.

Applicants: Union Electric Company.

Description: Union Electric Company submits tariff filing per 35.15: Withdrawal of RS 94 to be effective 12/18/2011.

Filed Date: 10/21/2011.

Accession Number: 20111021-5081.

Comment Date: 5 p.m. Eastern Time on Monday, November 14, 2011.

Docket Numbers: ER12-156-000.

Applicants: Virginia Electric and Power Company.

Description: Virginia Electric and Power Company submits tariff filing per 35: Compliance Filing—MBS Tariff Sect 17.0 Limitations to be effective 10/21/2011.

Filed Date: 10/21/2011.

Accession Number: 20111021-5091.

Comment Date: 5 p.m. Eastern Time on Monday, November 14, 2011.

Docket Numbers: ER12-157-000.

Applicants: Elwood Energy, LLC.

Description: Elwood Energy, LLC submits tariff filing per 35: Compliance Filing—MBR Tariff Order of Affiliate Restrictions to be effective 10/21/2011.

Filed Date: 10/21/2011.

Accession Number: 20111021-5095.

Comment Date: 5 p.m. Eastern Time on Monday, November 14, 2011.

Docket Numbers: ER12-158-000.

Applicants: Dominion Energy Salem Harbor, LLC.

Description: Dominion Energy Salem Harbor, LLC submits tariff filing per 35: Compliance Filing—MBR Tariff Order of Affiliate Restrictions to be effective 10/21/2011.

Filed Date: 10/21/2011.

Accession Number: 20111021-5097.

Comment Date: 5 p.m. Eastern Time on Monday, November 14, 2011.

Docket Numbers: ER12-159-000.

Applicants: Dominion Nuclear Connecticut, Inc.

Description: Dominion Nuclear Connecticut, Inc. submits tariff filing per 35: Compliance Filing—MBR Tariff Order of Affiliate Restrictions to be effective 10/21/2011.

Filed Date: 10/21/2011.

Accession Number: 20111021-5107.

Comment Date: 5 p.m. Eastern Time on Monday, November 14, 2011.

Docket Numbers: ER12-160-000.

Applicants: Dominion Retail, Inc.

Description: Dominion Retail, Inc. submits tariff filing per 35: Compliance Filing—MBR Tariff Order of Affiliate Restrictions to be effective 10/21/2011.

Filed Date: 10/21/2011.

Accession Number: 20111021-5111.

Comment Date: 5 p.m. Eastern Time on Monday, November 14, 2011.

Docket Numbers: ER12-161-000.

Applicants: Bishop Hill Energy LLC.

Description: Bishop Hill Energy LLC submits tariff filing per 35.1: Application for Market-Based Rate Authorization & Request for Waivers & Approval to be effective 12/21/2011.

Filed Date: 10/21/2011.

Accession Number: 20111021-5120.

Comment Date: 5 p.m. Eastern Time on Monday, November 14, 2011.

Docket Numbers: ER12-162-000

Applicants: Bishop Hill Energy II LLC

Description: Bishop Hill Energy II LLC submits tariff filing per 35.1: Application for Market-Based Rate Authorization & Request for Waivers & Approval to be effective 12/21/2011.

Filed Date: 10/21/2011.

Accession Number: 20111021-5121.

Comment Date: 5 p.m. Eastern Time on Monday, November 14, 2011.

Docket Numbers: ER12-163-000.

Applicants: ISO New England Inc.

Description: ISO New England Inc. submits tariff filing per 35.13(a)(2)(iii): 2012 NESCOE Budget to be effective 1/1/2012.

Filed Date: 10/21/2011.

Accession Number: 20111021-5122.

Comment Date: 5 p.m. Eastern Time on Monday, November 14, 2011.

Docket Numbers: ER12-164-000.

Applicants: Bishop Hill Energy III LLC.

Description: Bishop Hill Energy III LLC submits tariff filing per 35.1: Application for Market-Based Rate Authorization & Request for Waivers & Approval to be effective 12/21/2011.

Filed Date: 10/21/2011.

Accession Number: 20111021-5123.

Comment Date: 5 p.m. Eastern Time on Monday, November 14, 2011.

Take notice that the Commission received the following electric securities filings:

Docket Numbers: ES11-50-000.

Applicants: AEP Generating Company, AEP Texas North Power Company, AEP Texas Central Company, Appalachian Power Company, Indiana Michigan Power Company, Kentucky Power Company, Kingsport Power Company, Public Service Company of Oklahoma, Southwestern Electric Power Company, Wheeling Power Company.

Description: Supplemental Application under Section 204 of the Federal Power Act for Authorization to Issue Securities of AEP Generating Company.

Filed Date: 10/21/2011.

Accession Number: 20111021-5117.

Comment Date: 5 p.m. Eastern Time on Monday, October 31, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2011.
Nathaniel J. Davis, Sr.,
Deputy Secretary.

[FR Doc. 2011-28000 Filed 10-28-11; 8:45 am]

BILLING CODE 6717-01-P